DEPARTMENT OF ENERGY

Federal Energy Regulatory Commission

[Docket No. EC04-121-000, et al.]

American Electric Power Service Corporation, et al.; Electric Rate and Corporate Filings

June 22, 2004.

The following filings have been made with the Commission. The filings are listed in ascending order within each docket classification.

1. American Electric Power Service Corporation; AEP Texas Central Company

[Docket No. EC04-121-000]

Take notice that on June 18, 2004, American Electric Power Service Corporation (AEPSC), acting on behalf of its electric utility subsidiary, AEP Texas Central Company, formerly known as Central Power and Light Company (TCC) (collectively, Applicant), submitted an application for approval of the transfer by TCC of certain jurisdictional facilities associated with TCC's 7.81 percent undivided ownership interest in the 690 MW Oklaunion Unit No. 1 to the City of Brownsville, Texas, acting by and through the Brownsville Public Utilities Board (PUB), or in the alternative to PUB and the Oklahoma Municipal Power Authority (OMPA), pursuant to section 203 of the Federal Power Act (Act), 16 U.S.C. 824b (2003), and part 33 of the Regulations of the Federal Energy Regulatory Commission (Commission), as revised pursuant to Order No. 642, FERC Stats. & Regs. ¶ 31,111 (2000). Applicant states that such transfer is proposed to be made to comply with the Texas Public Utility Regulatory Act. Applicant requests expedited consideration of the application and privileged treatment of certain exhibits to the application.

The Applicant states that a copy of the filing has been served on the Public Utility Commission of Texas, the Office of Attorney General of Texas, the Oklahoma Corporation Commission and TCC's wholesale customers.

Comment Date: July 9, 2004.

2. Cedar II Power Corporation

[Docket No. EL04-111-000]

Take notice that on June 18, 2004, Cedar II Power Corporation filed with the Federal Energy Regulatory Commission (Commission) a Petition for Declaratory Order pursuant to Rule 207 of the Commission's Rules of Practice and Procedure, 18 CFR 385.207 (2003). Cedar II Power Corporation states that the petition concerns the proper implementation of the electric utility ownership “true-up” requirements applicable to Cedar Bay Generating Company, Limited Partnership.

Comment Date: July 19, 2004.

3. California Independent System Operator Corporation

[Docket Nos. ER03-1046-004; ER04-609-002]

Take notice that on June 17, 2004, California Independent System Operator Corporation, (ISO) submitted a response to the Commission's letter order issued June 10, 2004, in Docket Nos. ER03-1046-001, 002, and 003 and Docket Nos. ER04-609-000 and 001.

ISO states that it has served copies of the response, and all attachments, upon all parties on the official service lists for the captioned dockets. In addition, the ISO states that it is posting this response and all attachments on the ISO home page.

Comment Date: June 28, 2004.

4. Commonwealth Edison Company

[Docket No. ER04-897-001]

Take notice that on June 17, 2004, Commonwealth Edison Company (ComEd) submitted for filing a supplement to its June 1, 2004, in Docket No. ER04-897-000. ComEd requests an effective date of May 1, 2004.

ComEd states that a copy of the filing has been served on the affected State regulatory bodies, the counterparties to these service agreements and PJM Interconnection, LLC.

Comment Date: July 8, 2004.

5. Allied Energy Resources Corporation

[Docket No. ER04-923-000]

Take notice that on June 14, 2004, Allied Energy Resources Corporation (AERC) submitted for filing a request for acceptance of AERC Rate Schedule FERC No. 1; the granting of certain blanket approvals, including the authority to sell electricity at market-based rates; and the waiver of certain Commission regulations. AERC states that it intends to engage in wholesale electric power and energy transactions as a markerter. AERC further states that it is not in the business of generating or transmitting electric power. AERC requests an effective date of June 15, 2004.

Comment Date: July 6, 2004.

6. Bangor Hydro-Electric Company

[Docket No. ER04-935-000]

Take notice that on June 16, 2004, Bangor Hydro-Electric Company (BHE) filed proposed revisions to its FERC Open Access Transmission Tariff to reflect minor modifications to BHE's existing “Rate Formula” to comply with changes made by the Commission to the FERC Annual Report Form 1. BHE requests an effective date of June 1, 2004.

BHE states that copies of this filing were served on all interested parties.

Comment Date: July 7, 2004.

7. Duke Energy Lee, LLC

[ Docket No. ER04-936-000]

Take notice that on June 17, 2004, Duke Energy Lee, LLC (Duke Lee) tendered for filing its Rate Schedule No. 2, a Black Start Agreement by and between Duke Lee and Commonwealth Edison Company (ComEd) pursuant to which Duke Lee will provide black start service to ComEd from its 640 MW natural gas-fired generating facility located in Lee County, Illinois. Duke Lee requests an effective date of August 16, 2004.

Duke Lee states that it has served copies of the filing on the Illinois Commerce Commission, ComEd, and PJM Interconnection, L.L.C.

Comment Date: July 8, 2004.

8. Volunteer Energy Services, Inc.

[Docket No. ER04-937-000]

Take notice that on June 17, 2004, Volunteer Energy Services, Inc. (VESI) submitted for filing a request for acceptance of VESI Rate Schedule FERC No. 1; the granting of certain blanket approvals, including the authority to sell electricity at market-based rates; and the waiver of certain Commission regulations. VEIS states that it intends to engage in wholesale electric power and energy purchases and sales as a marketer. VESI further states that it is not in the business of generating or transmitting electric power.

Comment Date: July 8, 2004.

9. California Independent System Operator Corporation

[Docket No. ER04-940-000]

Take notice that on June 18, 2004, the California Independent System Operator Corporation (ISO), tendered for filing an amendment (Amendment No. 2) to revise the Metered Subsystem Agreement between the ISO and Silicon Valley Power (SVP) for acceptance by the Commission. ISO states that the purpose of Amendment No. 2 is to revise Schedule 1 and Schedule 15.1 of the Metered Subsystem Agreement to include the new Nortech-Northern Receiving Station Point of Interconnection. The ISO is requesting waiver of the 60-day prior notice requirement to allow the revised Schedule 1 and Schedule 15.1 to be made effective as of April 23, 2004.

The ISO states that this filing has been served on SVP, the California Public Utilities Commission, and all entities on the official service list for Docket No. ER02-2321-000 and for Docket No. ER04-185-000.

Comment Date: July 9, 2004.

10. Salmon River Electric Cooperative, Inc.

[Docket No. ES04-16-001]

Take notice that on June 9, 2004, Salmon River Electric Cooperative, Inc. (Salmon River) submitted for filing an amended application for authority to issue securities pursuant to section 204 of the Federal Power Act (FPA), 16 U.S.C. 824c, and part 34 of the Federal Energy Regulatory Commission's (Commission) regulations, 18 CFR part 34. Salmon River requests that the Commission: (1) Authorize prospective issuances of debt under a loan agreement and two line of credit agreements with the National Rural Utilities Cooperative Finance Corporation during a two-year period commencing July 9, 2004; (2) authorize prospectively the issuance of securities and a guaranty that were originally inadvertently issued without requisite approval under section 204 of the FPA; (3) waive the restrictions on public utility issuances of secured and unsecured debt set forth in Westar with respect to these authorizations; and (4) waive the competitive bidding requirement with respect to these issuances.

Comment Date: June 30, 2004.

11. ISO New England Inc.

[Docket No. ES04-39-000]

On June 18, 2004, the Commission issued a Notice of Filing regarding ISO New England Inc.'s June 15, 2004, filing in the above-docketed proceeding. By this notice, the comment period for interventions and protests regarding the June 15, 2004, filing is shortened to and including July 6, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1484 Filed 7-6-04; 8:45 am]

BILLING CODE 6717-01-P